DEPARTMENT OF LABOR

Employment and Training Administration

[TA-W-41,747]

G & T Industrial Sheet Metal, Bend, OR; Notice of Termination of Investigation

Pursuant to section 221 of the Trade Act of 1974, an investigation was initiated on July 1, 2002 in response to a worker petition, which was filed by the company on behalf of workers at G & T Industrial Sheet Metal, Bend, Oregon.

The petitioner has requested that the petition be withdrawn. Consequently, further investigation in this case would serve no purpose, and the investigation has been terminated.

Signed in Washington, DC, this 26th day of August, 2002.
Linda G. Poole,
Certifying Officer, Division of Trade Adjustment Assistance.

[FR Doc. 02-22971 Filed 9-9-02; 8:45 am]

BILLING CODE 4510-30-P